DEPARTMENT OF ENERGY

Federal Energy Regulatory Commission

[Project No. 11426-000]

T.A. Keck, III and H.S. Keck; Notice of Existing Licensee's Failure To File a Notice of Intent To File a Subsequent License Application, and Soliciting Notices of Intent To File a License Application and Pre-Application Documents

The current license for T.A. Keck, III and H.S. Keck's (the Kecks') Blackstone Mill Hydroelectric Project No. 11426 (Blackstone Mill Project) was issued on November 18, 1993, for a term of 30 years, ending October 31, 2023.¹ The 65-kilowatt (kW) project is located on East Mahantango Creek, a tributary of the Susquehanna River near the Town of Pillow, in Dauphin County, Pennsylvania.

¹ See T.A. Keck, III and H.S. Keck, 65 FERC ¶ 62,149 (1993).

The principal project works consist of: (1) A 102-foot-long, approximately 2.5-foot-high dam; (2) a reservoir with a surface area of about 3 acres and a total volume of about 7 acre-feet at the normal water surface elevation of approximately 470 feet mean sea level; (3) a headrace or power canal about 3,200 feet long by 20 feet wide by 5 feet deep; (4) a stone-masonry powerhouse containing two generating units rated at 50 kW and 15 kW for a total installed capacity of 65 kW; (5) an overhead 240-volt transmission line about 60 feet long; and (6) appurtenant equipment and facilities.

At least five years before the expiration of a license for a minor water power project in which sections 14 and 15 of the Federal Power Act were waived, the Commission's regulations require the licensee to file with the Commission a notice of intent (NOI) that contains an unequivocal statement of the licensee's intention to file or not to file an application for a subsequent license, details on the principal project works and installed plant capacity, and other information.²

² 18 CFR 16.19(b) (2018) (citing 18 CFR 16.6(b)). Section 16.19(b) applies to licenses not subject to Parts 14 and 15 of the Federal Power Act.

If such a licensee does not inform the Commission that it intends to file an application for, in this case, a subsequent license for the project, the licensee may not file an application for a subsequent license, either individually or in conjunction with an entity or entities that are not currently licensees of the project.³

³ 18 CFR 16.24(b) (2018).

Because the existing license expires on October 31, 2023, the NOI was due to be filed no later than the close of business on October 31, 2018. The Kecks, the existing licensee for the Blackstone Mill Project, failed to file an NOI by this date.

Any party interested in filing a license application for the Blackstone Mill Project No. 11426 must first file a Notice of Intent (NOI) ⁴ and pre-application document (PAD) ⁵ pursuant to Part 5 of the Commission's regulations. Although the integrated licensing process (ILP) is the default pre-filing process, section 5.3(b) of the Commission's regulations allows a potential license applicant to request to use alternative licensing procedures when it files its NOI.⁶

⁴ 18 CFR 5.5 (2018).

⁵ 18 CFR 5.6 (2018).

⁶ 18 CFR 5.3(b) (2018).

This notice sets a deadline of 120 days from the date of this notice for interested applicants, other than the existing licensee, to file NOIs, PADs, and requests to use an alternative licensing process.

Applications for a subsequent license from potential (non-licensee) applicants must be filed with the Commission at least 24 months prior to the expiration of the existing license.⁷ Because the existing license expires on October 31, 2023, applications for license for this project must be filed by October 31, 2021.⁸

⁷ 18 CFR 16.20 (2018).

⁸ To the extent an interested applicant files an NOI and PAD and elects or is required to use the Commission's ILP, a process plan will be issued within 180 days of this notice, which accelerates the steps of the ILP to allow for filing a subsequent license application by the October 31, 2021 deadline.

Questions concerning this notice should be directed to Andy Bernick at (202) 502-8660 or andrew.bernick@ferc.gov.

Dated: November 6, 2018.
Kimberly D. Bose,
Secretary.

[FR Doc. 2018-24701 Filed 11-9-18; 8:45 am]

BILLING CODE 6717-01-P